DEPARTMENT OF ENERGY

Federal Energy Regulatory Commission

[Project No. 6470-008]

Winooski Hydroelectric Company; Notice of Waiver Period for Water Quality Certification Application

On March 6, 2023, Winooski Hydroelectric Company submitted to the Federal Energy Regulatory Commission (Commission) evidence of the date on which the certifying agency received the certification request for a Clean Water Act section 401(a)(1) water quality certification filed with the Vermont Department of Environmental Conservation, in conjunction with the above-captioned project. Pursuant to 40 CFR 121.6 and section [4.34(b)(5), 5.23(b), 153.4, or 157.22] of the Commission's regulations,¹ we hereby notify the Vermont Department of Environmental Conservation of the following:

¹ 18 CFR [4.34(b)(5)/5.23(b)/153.4/157.22].

Date of Receipt of the Certification Request: March 6, 2023.

Reasonable Period of Time To Act on the Certification Request: One year (March 6, 2024).

If the Vermont Department of Environmental Conservation fails or refuses to act on the water quality certification request on or before the above date, then the agency certifying authority is deemed waived pursuant to section 401(a)(1) of the Clean Water Act, 33 U.S.C. 1341(a)(1).

Dated: March 8, 2023.
Kimberly D. Bose,
Secretary.

[FR Doc. 2023-05163 Filed 3-13-23; 8:45 am]

BILLING CODE 6717-01-P